DEPARTMENT OF COMMERCE

Submission for OMB Review; Comment Request

DOC has submitted to the Office of Management and Budget (OMB) for clearance the following proposal for collection of information under the provisions of the Paperwork Reduction Act of 1995, Public Law 104-13 (44 U.S.C. 3506(c)(2)(A)).

Bureau: International Trade Administration.

Title: Information on Articles for Physically or Mentally Handicapped Persons Imported Free of Duty.

Agency Form Number: ITA-362P.

OMB Number: 0625-0118.

Type of Request: Extension-Regular Submission.

Burden: 337 hours.

Number of Respondents: 240.

Avg. Hours Per Response: 4 minutes.

Needs and Uses: Congress, when it enacted legislation to implement the Nairobi Protocol to the Florence Agreement, included a provision for the Departments of Commerce and Homeland Security to collect information on the import of articles for the handicapped. Form ITA-362P, Information on Articles for Physically or Mentally Handicapped Persons Imported Free of Duty, is the vehicle by which statistical information is obtained to assess whether the duty-free treatment of articles for the handicapped has had a significant adverse impact on a domestic industry (or portion thereof) manufacturing or producing a like or directly competitive article. Without the collection of data, it would be almost impossible for a sound determination to be made and for the President to appropriately redress the situation.

Affected Public: Businesses or other for-profit, not-for-profit institutions, state, local or tribal governments, federal government, individuals or households.

Frequency: On Occasion.

Respondent's Obligation: Required to obtain or retain a benefit, voluntary.

OMB Desk Officer: David Rostker, (202) 395-7340.

Copies of the above information collection proposal can be obtained by writing Diana Hynek, Departmental Paperwork Clearance Officer, Department of Commerce, Room 6625, 14th and Constitution Ave., NW., Washington, DC 20230; or via the Internet at dHynek@doc.gov.

Written comments and recommendations for the proposed information collection should be sent via e-mail to David_Rostker@omb.eop.gov within 30 days of publication of this Federal Register notice.

Dated: October 28, 2004.
Madeleine Clayton,
Management Analyst, Office of Chief Information Officer.

[FR Doc. 04-24491 Filed 11-2-04; 8:45 am]

BILLING CODE 3510-DS-P